DEPARTMENT OF TRANSPORTATION

Federal Aviation Administration

14 CFR Part 39

[Docket No. 2003-NM-119-AD]

RIN 2120-AA64

Airworthiness Directives; McDonnell Douglas Model DC-10-10, DC-10-10F, DC-10-15, DC-10-30, DC-10-30F (KC-10A, KDC-10), DC-10-40, DC-10-40F, MD-10-10F, MD-10-30F, MD-11, and MD-11F Airplanes

AGENCY: Federal Aviation Administration, DOT.

ACTION: Notice of proposed rulemaking (NPRM).

SUMMARY: This amendment proposes the supersedure of an existing airworthiness directive (AD), applicable to certain McDonnell Douglas Model DC-10 series airplanes, Model MD-10 series airplanes, and Model MD-11 series airplanes. That AD currently requires repetitive inspections of the number 1 and 2 electric motors of the auxiliary hydraulic pump for electrical resistance, continuity, mechanical rotation, and associated wiring resistance/ voltage; and corrective actions, if necessary. This action would reduce the interval between the repetitive inspections. The actions specified by the proposed AD are intended to prevent various failures of electric motors of the auxiliary hydraulic pump and associated wiring, which could result in fire at the auxiliary hydraulic pump and consequent damage to the adjacent electrical equipment and/or structure. This action is intended to address the identified unsafe condition.

DATES: Comments must be received by March 8, 2004.

ADDRESSES: Submit comments in triplicate to the Federal Aviation Administration (FAA), Transport Airplane Directorate, ANM-114, Attention: Rules Docket No. 2003-NM-119-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-119-AD” in the subject line and need not be submitted in triplicate. Comments sent via the Internet as attached electronic files must be formatted in Microsoft Word 97 or 2000 or ASCII text.

The service information referenced in the proposed rule may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California.

FOR FURTHER INFORMATION CONTACT: Ken Sujishi, Aerospace Engineer, Systems and Equipment Branch, ANM-130L, FAA, Los Angeles Aircraft Certification Office, 3960 Paramount Boulevard, Lakewood, California 90712-4137; telephone (562) 627-5353; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-119-AD.” The postcard will be date stamped and returned to the commenter.

Availability of NPRMs

Any person may obtain a copy of this NPRM by submitting a request to the FAA, Transport Airplane Directorate, ANM-114, Attention: Rules Docket Number 2003-NM-119-AD, 1601 Lind Avenue, SW., Renton, Washington 98055-4056.

Discussion

On July 2, 2001, the FAA issued AD 2001-14-08, amendment 39-12319 (66 FR 36441, July 12, 2001), applicable to certain McDonnell Douglas Model DC-10 series airplanes, Model MD-10 series airplanes, and Model MD-11 series airplanes, to require the following actions:

1. Do an initial detailed inspection of the number 1 and 2 electric motors of the auxiliary hydraulic pump for electrical resistance, continuity, mechanical rotation, and associated wiring resistance/voltage.

2. Replace any failed hydraulic pump.

3. Troubleshoot and repair any failed wiring.

4. Do repetitive inspections of the number 1 and 2 electric motors of the auxiliary hydraulic pump for electrical resistance, continuity, mechanical rotation, and associated wiring resistance/voltage.

The initial inspections were to be conducted within 6 months after August 16, 2001, the effective date of AD 2001-14-08, except in one case. For those MD-11 and MD-11F airplanes which had accumulated fewer than 3,000 flight hours as of the effective date of the AD, the initial inspection was to be done within 6 months after accumulating 3,000 flight hours. The repetitive inspections were to be conducted every 6,000 flight-hours or every 18 months thereafter, whichever came first.

That AD was prompted by reports that, during ground operations or when powered in flight by the air driven generator, the electric motors of the auxiliary hydraulic pump and associated motor feeder cables failed on certain McDonnell Douglas Model DC-10, MD-11, and MD-90-30 series airplanes.

The requirements of that AD are intended to prevent such failures of the electric motors of the auxiliary hydraulic pump and associated wiring, which could result in fire at the auxiliary hydraulic pump and consequent damage to the adjacent electrical equipment and/or structure.

Actions Since Issuance of Previous Rule

Since the issuance of that AD, Boeing has informed the FAA that the original compliance time was not adequate, because another incident of failure of an electric motor of the auxiliary hydraulic pump had occurred during the interval between repetitive inspections.

Explanation of Relevant Service Information

The FAA has reviewed and approved Boeing Alert Service Bulletin DC10-29A142, Revision 02, dated April 17, 2003, pertaining to certain Model DC-10-10, DC-10-10F, DC-10-15, DC-10-30, DC-10-30F (KC-10A, KDC-10), DC-10-40, DC-10-40F, MD-10-10F, MD-10-30F airplanes. The FAA has also reviewed and approved Boeing Alert Service Bulletin MD11-29A057, Revision 02, dated April 17, 2003, pertaining to certain Model MD-11 and MD-11F airplanes. The actions described in those alert service bulletins are essentially the same as those described in Revision 01 of the alert service bulletins. Revision 02 of both alert service bulletins recommend that the repetitive inspections of the number 1 and 2 electric motors of the auxiliary hydraulic pump for electrical resistance, continuity, mechanical rotation, and associated airplane wiring resistance/voltage be performed “every 2,500 flight-hours.” Both service bulletins also recommend that results of the initial inspection, either positive and negative, be sent to the manufacturer.

Explanation of Requirements of Proposed Rule

Since an unsafe condition has been identified that is likely to exist or develop on other products of this same type design, the proposed AD would supersede AD 2001-14-08 to require that the repetitive inspections of the number 1 and 2 electric motors of the auxiliary hydraulic pump for electrical resistance, continuity, mechanical rotation, and associated airplane wiring resistance/voltage; and corrective actions, if necessary, be performed at intervals not to exceed 2,500 flight hours. The actions would be required to be accomplished in accordance with the service bulletins, except as described below.

Interim Action

This is considered to be interim action until final action is identified, at which time the FAA may consider further rulemaking.

Difference Between Proposed Rule and Referenced Service Bulletins

Operators should note that, although the Accomplishment Instructions of the referenced alert service bulletins describe procedures for reporting the results, both positive and negative of the initial inspection to the manufacturer, this proposed AD would not require those actions. The FAA does not need this information from operators.

Explanation of Change to Applicability in Proposed AD

The FAA has revised the applicability of the existing AD to identify model designations as published in the most recent type certificate data sheet for the affected models. The existing AD specifies the applicability as “Model DC-10 and MD-10 series airplanes, as listed in McDonnell Douglas Alert Service Bulletin DC10-29A142, Revision 01, dated October 21, 1999; and Model MD-11 series airplanes, as listed in McDonnell Douglas Alert Service Bulletin MD11-29A057, Revision 01, dated October 21, 1999; certificated in any category.”

The proposed AD specifies the applicability as “McDonnell Douglas Model DC-10-10, DC-10-10F, DC-10-15, DC-10-30, DC-10-30F (KC-10A, KDC-10), DC-10-40, DC-1040F, MD-10-10F, and MD-10-30F airplanes, as listed in McDonnell Douglas Alert Service Bulletin DC10-29A142, Revision 01, dated October 21, 1999; or Revision 02, dated April 17, 2003; and Model MD-11 and MD-11F airplanes, as listed in McDonnell Douglas Alert Service Bulletin MD11-29A057, Revision 01, dated October 21, 1999; or Revision 02, dated April 17, 2003; certificated in any category.

Cost Impact

There are approximately 604 airplanes of the affected design in the worldwide fleet. The FAA estimates that 396 airplanes of U.S. registry would be affected by this proposed AD.

The repetitive inspections that are currently required by AD 2001-14-08 take approximately 1 work hour per airplane to accomplish, at an average labor rate of $65 per work hour. Based on these figures, the cost impact on U.S. operators of the actions currently required is estimated to be $25,740, or $65 per airplane, per inspection cycle. The cost of the repetitive inspections per inspection cycle would not change in the proposed AD.

The cost impact figures discussed above are based on assumptions that no operator has yet accomplished any of the current or proposed requirements of this AD action, and that no operator would accomplish those actions in the future if this AD were not adopted. The cost impact figures provided in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12319 (66 FR 36441, July 12, 2001), and by adding a new airworthiness directive (AD), to read as follows:

McDonnell Douglas: Docket 2003-NM-119-AD. Supersedes AD 2001-14-08, Amendment 39-12319.

Applicability: Model DC-10-10, DC-10-10F, DC-10-15, DC-10-30, DC-10-30F (KC-10A, KDC-10), DC-10-40, DC-10-40F, MD-10-10F, and MD-10-30F airplanes, as listed in McDonnell Douglas Alert Service Bulletin DC10-29A142, Revision 01, dated October 21, 1999; or Revision 02, dated April 17, 2003; and Model MD-11 and MD-11F airplanes, as listed in McDonnell Douglas Alert Service Bulletin MD11-29A057, Revision 01, dated October 21, 1999; or Revision 02, dated April 17, 2003; certificated in any category.

Compliance: Required as indicated, unless accomplished previously.

To prevent various failures of electric motors of the auxiliary hydraulic pump and associated wiring, which could result in fire at the auxiliary hydraulic pump and consequent damage to the adjacent electrical equipment and/or structure, accomplish the following:

Service Bulletin References

(a) The term “service bulletin,” as used in this AD, means the Accomplishment Instructions of one of the following service bulletins, as applicable:

(1) For Model DC-10-10, DC-10-10F, DC-10-15, DC-10-30, DC-10-30F (KC-10A, KDC-10), DC-10-40, DC-10-40F, MD-10-10F, and MD-10-30F airplanes: McDonnell Douglas Alert Service Bulletin DC10-29A142, Revision 01, dated October 21, 1999; or Revision 02, dated April 17, 2003.

(2) For Model MD-11 and MD-11F airplanes: McDonnell Douglas Alert Service Bulletin MD11-29A057, Revision 01, dated October 21, 1999; or Revision 02, dated April 17, 2003.

Note 1: Paragraphs (b)(1), (b)(2), and (b)(3) of this AD restate the requirement for an initial detailed inspection which was contained in paragraph (a) of AD 2001-14-08, amendment 39-12319. Operators who have previously accomplished the initial detailed inspection in accordance with paragraph (a) of AD 2001-14-08 need not repeat that inspection.

Initial Inspection

(b) Do a detailed inspection of the number 1 and 2 electric motors of the auxiliary hydraulic pumps for electrical resistance, continuity, mechanical rotation, and associated airplane wiring resistance/voltage, as specified in paragraph (b)(1), (b)(2), or (b)(3) of this AD, as applicable.

(1) For Model DC-10-10, DC-10-10F, DC-10-15, DC-10-30, DC-10-30F (KC-10A, KDC-10), DC-10-40, DC-10-40F, MD-10-10F, and MD-10-30F airplanes: Do the detailed inspection within 6 months after August 16, 2001 (the effective date of AD 2001-14-08), in accordance with the service bulletin.

(2) For Model MD-11 and MD-11F airplanes that have accumulated 3,000 flight hours or more as of August 16, 2001: Do the detailed inspection within 6 months after August 16, 2002, in accordance with the service bulletin.

(3) For Model MD-11 and MD-11F airplanes that have accumulated fewer than 3,000 flight hours as of August 16, 2002: Do the inspection within 6 months after accumulating 3,000 flight hours, in accordance with the service bulletin.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Repetitive Inspections

(c) Repeat the inspection required by paragraph (b) of this AD prior to accumulating an additional 2,500 flight hours after the effective date of this AD or prior to accumulating 6,000 flight hours since the previous inspection, whichever occurs first.

Condition 1, No Failures Detected

(d) If no failures are detected during the inspection required by paragraph (b) or (c) of this AD, repeat the inspection at intervals not to exceed 2,500 flight hours.

Condition 2, Failure of Any Pump Motor

(e) If any pump motor fails during any inspection required by paragraph (b) or (c) of this AD, before further flight, replace the auxiliary hydraulic pump with a serviceable pump in accordance with the applicable service bulletin. Repeat the inspection required by paragraph (c) of this AD thereafter at intervals not to exceed 2,500 flight hours.

Condition 3, Failure of Any Wiring

(f) If any airplane wiring fails during any inspection required by paragraph (b) or (c) of this AD, before further flight, troubleshoot and repair the wiring in accordance with the applicable service bulletin. Repeat the inspection required by paragraph (c) of this AD thereafter at intervals not to exceed 2,500 flight hours.

Alternative Methods of Compliance

(g) In accordance with 14 CFR 39.19, the Manager, Los Angeles Aircraft Certification Office, FAA, is authorized to approve alternative methods of compliance for this AD.

Issued in Renton, Washington, on January 9, 2004.
Kalene C. Yanamura,
Acting Manager, Transport Airplane Directorate, Aircraft Certification Service.

[FR Doc. 04-1308 Filed 1-21-04; 8:45 am]

BILLING CODE 4910-13-P